ENVIRONMENTAL PROTECTION AGENCY

[FRL-7452-6]

Notice of Proposed Settlement; Solitron Microwave Superfund Site, Port Salerno, FL

AGENCY: Environmental Protection Agency.

ACTION: Notice of proposed settlement.

SUMMARY: The United States Environmental Protection Agency (EPA) is proposing to enter into a Prospective Purchaser Agreement (PPA) pursuant to section 122(h)(1) of the Comprehensive Environmental Response, Compensation and Liability Act of 1980 (CERCLA), as amended, regarding the Solitron Microwave Superfund Site located in Port Salerno, Martin County, Florida. This Agreement is made and entered into by EPA and the Port Salerno Industrial Park, LLC (“PSIP”). The PPA concerns the acquisition by PSIP of certain real property presently owned by Solitron Devices, Inc. EPA will consider public comments on the proposed settlement for thirty (30) days. EPA may withdraw from or modify the proposed settlement should public comments disclose facts or considerations which indicate the proposed settlement is inappropriate, improper or inadequate.

Copies of the proposed settlement are available from: Ms. Paula V. Batchelor, Waste Management Division, U.S. EPA, Region 4, Atlanta Federal Center, 61 Forsyth Street, SW., Atlanta, Georgia 30303-3104, 404/562-8887.

Written comments may be submitted to Ms. Batchelor within thirty (30) calendar days of the date of publication.

Dated: January 31, 2003.
Anita L. Davis,
Acting Chief, CERCLA Program Services Branch, Waste Management Division.

[FR Doc. 03-3700 Filed 2-13-03; 8:45 am]

BILLING CODE 6560-50-P